DEPARTMENT OF DEFENSE

Office of the Secretary

Defense Health Board; Notice of Federal Advisory Committee Meeting; Cancellation

AGENCY: Department of Defense (DoD).

ACTION: Notice of Federal Advisory Committee meeting; cancellation.

SUMMARY: On Thursday, February 13, 2014 (79 FR 8683-8684), the Department of Defense published a notice announcing a meeting of the Defense Health Board (DHB), which was scheduled to take place as a webcast on Monday, March 3, 2014. This notice announces the cancellation of the March 3, 2014 meeting. Due to the inclement weather and the government's decision to close Federal offices in the Washington, DC area, the scheduled DHB meeting on March 3, 2014 is cancelled. Due to the closure of Federal offices in the Washington DC area, this notice of meeting cancellation could not be published before the date of the meeting that is now cancelled.

FOR FURTHER INFORMATION CONTACT: Ms. Christine Bader, Christine.bader@dha.mil, (703) 681-6653 or Ms. Kendal Brown, Kendal.Brown.ctr@dha.mil, (703) 681-6670.

SUPPLEMENTARY INFORMATION:

Meeting Announcement: Due to inclement weather and the government's decision to close Federal offices in the Washington, DC area, the Defense Health Board's designated federal officer was unable to provide public cancellation notification in sufficient time for the previously scheduled Defense Health Board meeting for March 3, 2014, as required by 41 CFR 102-3.150(a). Accordingly, the Advisory Committee Management Officer for the Department of Defense, pursuant to 41 CFR 102-3.150(b), waives the 15-calendar day cancellation notification requirement.

Dated: March 5, 2014.
Aaron Siegel,
Alternate OSD Federal Register Liaison Officer, Department of Defense.

[FR Doc. 2014-05067 Filed 3-7-14; 8:45 am]

BILLING CODE 5001-06-P